DEPARTMENT OF ENERGY

Notice of the Department of Energy Freedom of Information Act (FOIA) “Still Interested” Inquiry

AGENCY: Office of the General Counsel, Department of Energy.

ACTION: Notice.

SUMMARY: The Department of Energy Headquarters (DOE HQ) is providing this notice regarding its efforts to increase efficiency, reduce the backlog of Freedom of Information Act (FOIA) requests, and assist those requesters still interested in with processing FOIA requests. This notice applies to requesters that are still interested in having DOE HQ process FOIA request(s) filed prior to Fiscal Year (FY) 2025 (i.e., any FOIA request submitted to DOE HQ prior to October 1, 2024). This notice does not apply to FOIA requests made to the National Nuclear Security Administration (NNSA), the Federal Energy Regulatory Commission (FERC), or any DOE field site. This notice does not alter any of DOE's existing FOIA regulations.

DATES: All responses to this notice will be accepted on or before September 15, 2025.

ADDRESSES: All responses to this notice must be submitted by email at StillInterestedFOIA@hq.doe.gov.

FOR FURTHER INFORMATION CONTACT: Todd Burns, FOIA Officer, 202-586-2918; StillInterestedFOIA@hq.doe.gov.

SUPPLEMENTARY INFORMATION: Pursuant to 5 U.S.C. 552, and in alignment with the Department of Justice's guidance on the use of “Still Interested” letters, DOE HQ is attempting to reach a large number of requesters to determine whether to continue processing DOE HQ FOIA request(s), or administratively close DOE HQ FOIA requests to maximize government resources.

DOE's incoming FOIA requests have more than tripled in the past four years, with over 4,000 requests received in FY24, and an expected 5,000 or more requests in FY25. DOE has limited resources to process the burgeoning number of FOIA requests. Additionally, due to the advancements in technology, DOE is being inundated with requests from vexatious requesters and automated bots. These requesters rarely respond to DOE inquiries to reformulate non-confirming requests, and contribute to processing bottlenecks. Therefore, DOE is undertaking this endeavor as an attempt to free up government resources to better serve the American people and focus its efforts on more efficiently connecting the citizenry with the work of its government.

Requesters who submitted a FOIA request to DOE HQ at any time prior to October 1, 2024 (FY25), that is still open and is not under active litigation with DOE (or another Federal agency) shall email StillInterestedFOIA@hq.doe.gov to continue processing of the FOIA request. Please note that the foregoing applies to FOIA requests submitted to another agency, which were transferred to DOE and provided with a DOE control number.

The email correspondence must include the specific DOE HQ FOIA control number(s) (e.g., HQ-2024-xxxxx-F) and a request that DOE HQ continue processing the request(s). All responses should be received no later than 30 days from the date of this notice.

DOE is also issuing emails to those addresses on file, referring requesters to this notice. Please note however that DOE will only be accepting responses to this notice at the email address provided above. Responses sent to any other email address or via any other means may result in an inadvertent closure of the FOIA request(s).

Due to the voluminous number of FOIA requests that DOE manages, please note that a response with the DOE HQ FOIA control number(s) is required to keep the request open. If DOE HQ does not receive a response from requesters within the 30-day time-period with a DOE control number, no further action will be taken on the open FOIA request(s), and the file may be administratively closed.

This notice only applies to DOE HQ FOIA requests and does not include requests made to the National Nuclear Security Administration (NNSA), or the Federal Energy Regulatory Commission (FERC), or any DOE field site. It also does not apply to any FOIA requests under active litigation with DOE. Finally, this notice does not alter any of DOE's existing FOIA regulations.

Statutory Authority: 5 U.S.C. 552.

Signing Authority

This document of the Department of Energy was signed on August 12, 2025, by Jeffrey Novak, Acting General Counsel, Office of the General Counsel, pursuant to delegated authority from the Secretary of Energy. The document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 12, 2025.
Treena V. Garrett,
Federal Register Liaison Officer, U.S. Department of Energy.

[FR Doc. 2025-15490 Filed 8-13-25; 8:45 am]

BILLING CODE 6450-01-P